DEPARTMENT OF HOMELAND SECURITY

Coast Guard

33 CFR Part 100

[Docket No. USCG-2022-0325]

Special Local Regulations, Clinch River, Miles 48.5-52, Oak Ridge TN

AGENCY: Coast Guard, DHS.

ACTION: Notification of enforcement of regulation.

SUMMARY: The Coast Guard will enforce a special local regulation for the American Collegiate Rowing Association Regatta (Formerly U.S. Rowing Southeast Youth Championship Regatta) from May 20, 2022 to May 22, 2022, to provide for the safety of life on navigable waterways during this event. Our regulation for marine events within the Eighth Coast Guard District identifies the regulated area for this event in Oak Ridge, TN. During the enforcement periods, the operator of any vessel in the regulated area must comply with directions from the Patrol Commander or any Official Patrol displaying a Coast Guard ensign.

DATES: The regulations in 33 CFR 100.801 will be enforced from May 20, 2022, through May 22, 2022. The regulations in 33 CFR 100.801 will be enforced from 6 a.m. until 7 p.m., each day from May 20, 2022, through May 22, 2022.

FOR FURTHER INFORMATION CONTACT: If you have questions about this notification of enforcement, call or email If you have questions on this rule, call or email MST3 Benjamin Gardner, U.S. Coast Guard; telephone 615-736-5421, email Benjamin.t.gardner@uscg.mil.

SUPPLEMENTARY INFORMATION: The Coast Guard will enforce special local regulations in 33 CFR 100.801 for the American Collegiate Rowing Association Regatta (Formerly U.S. Rowing Southeast Youth Championship Regatta) regulated area from 6:00 a.m. to 7:00 p.m. from May 20, 2022, to May 22, 2022. This action is being taken to provide for the safety of life on navigable waterways during this 3-day event. Our regulation for marine events within the Eighth Coast Guard District, § 100.801, specifies the location of the regulated area for the American Collegiate Rowing Association Regatta (Formerly U.S. Rowing Southeast Youth Championship Regatta) which encompasses portions of the Clinch River. During the enforcement periods, as reflected in § 100.100(c), if you are the operator of a vessel in the regulated area you must comply with directions from the Patrol Commander or any Official Patrol displaying a Coast Guard ensign.

In addition to this notification of enforcement in the Federal Register, the Coast Guard plans to provide notification of this enforcement period via the Local Notice to Mariners, marine information broadcasts, local radio stations and area newspapers.

Dated: April 25, 2022.
A.M. Beach,
Captain, U.S. Coast Guard, Captain of the Port Sector Ohio Valley.

[FR Doc. 2022-09330 Filed 4-29-22; 8:45 am]

BILLING CODE 9110-04-P